DEPARTMENT OF TRANSPORTATION

Office of the Secretary

Aviation Proceedings, Agreements Filed the Week Ending April 4, 2003

The following Agreements were filed with the Department of Transportation under the provisions of 49 U.S.C. 412 and 414. Answers may be filed within 21 days after the filing of the application.

Docket Number: OST-2003-14869.

Date Filed: April 3, 2003.

Parties: Members of the International Air Transport Association.

Subject: PTC12 NMS-AFR 0161 dated 14 March 2002 (Mail Vote 279), Mid Atlantic-Africa Resolutions r1-r10, PTC12 NMS-AFR 0162 dated 14 March 2003 (Mail Vote 280), South Atlantic-Africa Resolutions r11-r23, Minutes—PTC12 NMS-AFR 0163 dated 21 March 2003, Tables—PTC12 NMS-AFR Fares 0079 dated 21 March 2003, PTC12 NMS-AFR Fares 0080 dated 21 March 2003, Intended effective date: 1 May 2003.

Docket Number: OST-2003-14870.

Date Filed: April 3, 2003.

Parties: Members of the International Air Transport Association.

Subject: PTC2 EUR 510 dated 4 April 2003, Mail Vote 290—Resolution 010d, TC2 Within Europe Special Passenger Amending Resolution, from Poland to Europe, Intended effective date: 11 April 2003.

Dorothy Y. Beard,
Chief, Docket Operations & Media Management, Federal Register Liaison.

[FR Doc. 03-8950 Filed 4-10-03; 8:45 am]

BILLING CODE 4910-62-P